DEPARTMENT OF VETERANS AFFAIRS

[OMB Control No. 2900-0772]

Agency Information Collection Activity: VA Cooperative Studies Program

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before February 22, 2018.

ADDRESSES: Submit written comments on the collection of information through www.Regulations.gov, or to Office of Information and Regulatory Affairs, Office of Management and Budget, Attn: VA Desk Officer, 725 17th St. NW, Washington, DC 20503 or sent through electronic mail to oira_submission@omb.eop.gov. Please refer to “OMB Control No. 2900-0772” in any correspondence.

FOR FURTHER INFORMATION CONTACT: Cynthia Harvey-Pryor, Office of Quality, Privacy and Risk (OQPR), Department of Veterans Affairs, 810 Vermont Avenue NW, Washington, DC 20420, (202) 461-5870 or email cynthia.harvey-pryor@va.gov. Please refer to “OMB Control No. 2900-0772” in any correspondence.

SUPPLEMENTARY INFORMATION:

Authority: 38 U.S.C. Part 1, Chapter 5, Section 527

Title: VA Cooperative Studies Program (CSP):

VA Form 10-10074, CSP Customer Satisfaction Survey.

VA Form 10-10074a, Meeting Evaluation.

OMB Control Number: 2900-0772.

Type of Review: Reinstatement of a currently approved collection.

Abstract: The information collected will be used by VA Cooperative Studies Program (CSP) leadership to evaluate their Coordinating Centers' effectiveness in conducting meetings and interacting with participating study sites and other customers.

An agency may not conduct or sponsor, and a person is not required to respond to a collection of information unless it displays a currently valid OMB control number. The Federal Register Notice with a 60-day comment period soliciting comments on this collection of information was published at 82 FR 51482 on November 6, 2017, pages 51482-51483.

Affected Public: Individuals or Households.

Estimated Annual Burden:

VA Form 10-10074—83 hours.

VA Form 10-10074a—83 hours.

Estimated Average Burden Per Respondent:

VA Form 10-10074—10 minutes.

VA Form 10-10074a—10 minutes.

Frequency of Response: Annually.

Estimated Number of Respondents:

VA Form 10-10074—500.

VA Form 10-10074a—500.

By direction of the Secretary.
Cynthia Harvey-Pryor,
Department Clearance Officer, Office of Quality, Privacy and Risk, Department of Veterans Affairs.

[FR Doc. 2018-01105 Filed 1-22-18; 8:45 am]

BILLING CODE 8320-01-P